ENVIRONMENTAL PROTECTION AGENCY

[FRL OP-OFA-108]

Environmental Impact Statements; Notice of Availability

Responsible Agency: Office of Federal Activities, General Information 202-564-5632 or https://www.epa.gov/nepa.

Weekly receipt of Environmental Impact Statements (EIS)

Filed January 22, 2024 10 a.m. EST Through January 29, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240014, Draft, FTA, NY, Port Authority Bus Terminal Replacement Project, Comment Period Ends: 03/18/2024, Contact: Ky Woltering 212-668-2558.

EIS No. 20240015, Final Supplement, USFS, AK, Greens Creek North Extension Project, Review Period Ends: 03/18/2024, Contact: Matthew Reece 907-586-7876.

Dated: January 29, 2024.
Julie Smith,
Acting Director, NEPA Compliance Division, Office of Federal Activities.

[FR Doc. 2024-02118 Filed 2-1-24; 8:45 am]

BILLING CODE 6560-50-P